AGENCY FOR INTERNATIONAL DEVELOPMENT

Notice of Advisory Committee Re-Establishment

AGENCY: Agency for International Development (USAID).

ACTION: Notice of advisory committee re-establishment.

SUMMARY: Pursuant to the Federal Advisory Committee Act (FACA), notice is hereby given of the re-establishment of the Advisory Committee on Voluntary Foreign Aid (ACVFA).

ADDRESSES: To view additional information related to ACVFA please visit http://www.usaid.gov/who-we-are/organization/advisory-committee.

FOR FURTHER INFORMATION CONTACT: Sophia Lajaunie, Designated Federal Officer for ACVFA, at slajaunie@usaid.gov or 917-804-3674.

SUPPLEMENTARY INFORMATION: ACVFA brings together USAID and representatives from private voluntary organizations (PVO), universities, nongovernmental organizations (NGOs), multilateral and private organizations to foster understanding, communication, and cooperation in the area of foreign aid. The Administrator of USAID is re-establishing the committee for two years, effective on the date of filing of its renewed charter.

Sophia Lajaunie,
ACVFA Designated Federal Officer.

[FR Doc. 2022-17000 Filed 8-8-22; 8:45 am]

BILLING CODE 6116-01-P